DEPARTMENT OF TRANSPORTATION

Federal Aviation Administration

14 CFR Part 39

[Docket No. FAA-2017-1124; Product Identifier 2017-SW-073-AD; Amendment 39-19637; AD 2019-09-03]

RIN 2120-AA64

Airworthiness Directives; Airbus Helicopters

AGENCY: Federal Aviation Administration (FAA), DOT.

ACTION: Final rule.

SUMMARY: We are adopting a new airworthiness directive (AD) for Airbus Helicopters Model AS332C, AS332C1, AS332L, and AS332L1 helicopters. This AD requires inspecting the jettisoning mechanism of the left-hand (LH) and right-hand (RH) cabin sliding plug doors. This AD is prompted by a report that during a scheduled inspection a cabin door failed to jettison. The actions of this AD are intended to correct an unsafe condition on these products.

DATES: This AD is effective June 24, 2019.

The Director of the Federal Register approved the incorporation by reference of a certain document listed in this AD as of June 24, 2019.

ADDRESSES: For service information identified in this final rule, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy., Room 6N-321, Fort Worth, TX 76177. It is also available on the internet at http://www.regulations.gov by searching for and locating Docket No. FAA-2017-1124.

Examining the AD Docket

You may examine the AD docket on the internet at http://www.regulations.gov by searching for and locating Docket No. FAA-2017-1124; or in person at Docket Operations between 9 a.m. and 5 p.m., Monday through Friday, except Federal holidays. The AD docket contains this AD, the European Aviation Safety Agency (EASA) AD, any incorporated-by-reference service information, the economic evaluation, any comments received, and other information. The street address for Docket Operations (phone: 800-647-5527) is U.S. Department of Transportation, Docket Operations, M-30, West Building Ground Floor, Room W12-140, 1200 New Jersey Avenue SE Washington, DC 20590.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Discussion

On May 8, 2018, at 83 FR 20751, the Federal Register published our notice of proposed rulemaking (NPRM), which proposed to amend 14 CFR part 39 by adding an AD that would apply to Airbus Helicopters Model AS332C, AS332C1, AS332L, and AS332L1 helicopters, with a cabin sliding plug door installed in accordance with Airbus Helicopters modification (MOD) 0722338, except helicopters with a plug door jettison system installed in accordance with MOD 0725366. The NPRM proposed to require inspecting the jettisoning mechanism of the LH and RH cabin sliding plug doors. The proposed requirements were intended to prevent the cabin sliding door from failing to jettison, which could prevent helicopter occupants from evacuating the helicopter during an emergency.

The NPRM was prompted by EASA AD No. 2017-0022, dated February 8, 2017, issued by EASA, which is the Technical Agent for the Member States of the European Union, to correct an unsafe condition for Airbus Helicopters (previously Eurocopter) Model AS332C, AS332C1, AS332L, and AS332L1 helicopters equipped with a cabin sliding plug door modified in accordance with MOD 0722338. Helicopters with Eurocopter MOD 0725366 are exempt from the EASA AD's requirements.

EASA advises that the emergency jettison test of a cabin lateral sliding plug door failed during a scheduled inspection and test of the door's jettison mechanism. According to EASA, an investigation revealed that the jettison handle cable interfered with the cable clamps. EASA states that this condition could lead to jamming of the door jettisoning mechanism, preventing jettisoning of the affected door during an emergency, possibly obstructing evacuation of the occupants. The EASA AD consequently requires repetitive inspections of the jettisoning mechanism of the LH and RH door, followed by corrective actions if needed.

Comments

We gave the public the opportunity to participate in developing this AD, but we received no comments on the NPRM.

FAA's Determination

Theses helicopters have been approved by EASA and are approved for operation in the United States. Pursuant to our bilateral agreement with the European Union, EASA has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD requires that the initial inspection occur during the next jettisoning test of the doors or within 110 flight hours, whichever occurs first, and thereafter during certain maintenance tasks. This AD requires a one-time inspection within 110 hours TIS or prior to flying over water.

Related Service Information Under 1 CFR Part 51

We reviewed Airbus Helicopters Alert Service Bulletin No. AS332-52.00.56, Revision 0, dated January 30, 2017, which specifies pulling on the inner jettison handle to determine whether the cables come into contact with the cable clamps. If there is contact, this service information specifies changing the position of the cable clamps to prevent interference.

This service information is reasonably available because the interested parties have access to it through their normal course of business or by the means identified in the ADDRESSES section.

Other Related Service Information

We also reviewed Eurocopter Service Bulletin No. 332-52.00.28, Revision 1, dated April 29, 1998, which contains procedures to improve the door jettison system. Eurocopter identifies compliance with this service information as MOD 0725366.

Costs of Compliance

We estimate that this AD affects 19 helicopters of U.S. Registry and that labor costs average $85 per work-hour. Based on these estimates, we expect that inspecting the jettisoning mechanism and changing the orientation of the cable clamps, if necessary, requires 4 work-hours. No parts are required for a total cost of $340 per helicopter and $6,460 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-09-03 Airbus Helicopters: Amendment 39-19637; Docket No. FAA-2017-1124; Product Identifier 2017-SW-073-AD.

(a) Applicability

This AD applies to Airbus Helicopters Model AS332C, AS332C1, AS332L, and AS332L1 helicopters, certificated in any category, with a cabin sliding plug door installed in accordance with Airbus Helicopters modification (MOD) 0722338, except helicopters with a plug door jettison system installed in accordance with MOD 0725366.

(b) Unsafe Condition

This AD defines the unsafe condition as failure of a cabin sliding door to jettison, which could prevent helicopter occupants from evacuating the helicopter during an emergency.

(c) Effective Date

This AD becomes effective June 24, 2019.

(d) Compliance

You are responsible for performing each action required by this AD within the specified compliance time unless it has already been accomplished prior to that time.

(e) Required Actions

Within 110 hours time-in-service (TIS) or before the next operation over water, whichever occurs first, inspect the jettisoning mechanism of the left-hand and right-hand cabin doors for correct operation:

(1) Pull the jettisoning handle and determine whether the cable clamp contacts the top or bottom horizontal cables, using as a reference the photographs under paragraph 3.B.2 of Airbus Helicopters Alert Service Bulletin ASB No. AS332-52.00.56, Revision 0, dated January 30, 2017 (ASB).

(2) If there is contact between a cable clamp and a horizontal cable, before further flight, install both cable clamps as depicted in the bottom photograph under paragraph 3.B.2 of the ASB.

(f) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Eurocopter Service Bulletin No. 332-52.00.28, Revision 1, dated April 29, 1998, which is not incorporated by reference, contains additional information about the subject of this AD. For service information identified in this AD, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy., Room 6N-321, Fort Worth, TX 76177.

(2) The subject of this AD is addressed in European Aviation Safety Agency (EASA) AD No. 2017-0022, dated February 8, 2017. You may view the EASA AD on the internet at http://www.regulations.gov in Docket No. FAA-2017-1124.

(h) Subject

Joint Aircraft Service Component (JASC) Code: 5200, Doors.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin ASB No. AS332-52.00.56, Revision 0, dated January 30, 2017.

(ii) [Reserved]

(3) For Airbus Helicopters service information identified in this AD, contact Airbus Helicopters, 2701 N Forum Drive, Grand Prairie, TX 75052; telephone (972) 641-0000 or (800) 232-0323; fax (972) 641-3775; or at http://www.helicopters.airbus.com/website/en/ref/Technical-Support_73.html.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 1, 2019.
Lance T. Gant,
Director, Compliance & Airworthiness Division, Aircraft Certification Service.

[FR Doc. 2019-10307 Filed 5-17-19; 8:45 am]

BILLING CODE 4910-13-P